DEPARTMENT OF TRANSPORTATION

Federal Aviation Administration

14 CFR Part 39

[Docket No. 2003-NM-216-AD; Amendment 39-13646; AD 2004-11-01]

RIN 2120-AA64

Airworthiness Directives; Raytheon Model BAe.125 Series 800A (Including C-29A and U-125 Variant) and 800B Airplanes; and Model Hawker 800 (Including U-125A Variant), and 800XP Airplanes

AGENCY: Federal Aviation Administration, DOT.

ACTION: Final rule.

SUMMARY: This amendment adopts a new airworthiness directive (AD), applicable to certain Raytheon Model BAe.125 series 800A (including C-29A and U-125 variant) and 800B airplanes; and Model Hawker 800 (including U-125A variant) and 800XP airplanes; that requires a functional test of the engine fire extinguishing wiring for the appropriate installation; verification of the correct wiring connector installation; correction of wiring if necessary; and installation of new marker bands. This action is necessary to prevent incorrect wiring of the engine fire extinguisher bottles, which could result in one or both fire extinguisher bottles being discharged into the wrong engine nacelle. This action is intended to address the identified unsafe condition.

DATES: Effective July 7, 2004.

The incorporation by reference of certain publications listed in the regulations is approved by the Director of the Federal Register as of July 7, 2004.

ADDRESSES: The service information referenced in this AD may be obtained from Raytheon Aircraft Company, Department 62, P.O. Box 85, Wichita, Kansas 67201-0085. This information may be examined at the Federal Aviation Administration (FAA), Transport Airplane Directorate, Rules Docket, 1601 Lind Avenue, SW., Renton, Washington; or at the FAA, Wichita Aircraft Certification Office, 1801 Airport Road, Room 100, Mid-Continent Airport, Wichita, Kansas; or at the National Archives and Records Administration (NARA). For information on the availability of this material at NARA, call (202) 741-6030, or go to: http://www.archives.gov/federal_register/code_of_federal_regulations/ibr_locations.html.

FOR FURTHER INFORMATION CONTACT: Jeff Pretz, Aerospace Engineer, Airframe and Propulsion Branch, ACE-118W, FAA, Wichita Aircraft Certification Office, 1801 Airport Road, Room 100, Mid-Continent Airport, Wichita, Kansas 67209; telephone (316) 946-4153; fax (316) 946-4107.

SUPPLEMENTARY INFORMATION: A proposal to amend part 39 of the Federal Aviation Regulations (14 CFR part 39) to include an airworthiness directive (AD) that is applicable to certain Raytheon Model BAe.125 series 800A (including C-29A and U-125 variant) and 800B airplanes; and Model Hawker 800 (including U-125A variant) and 800XP airplanes; was published in the Federal Register on February 26, 2004 (69 FR 8880). That action proposed to require a functional test of the engine fire extinguishing wiring for the appropriate installation; verification of the correct wiring connector installation; correction of wiring if necessary; and installation of new marker bands.

Comments

Interested persons have been afforded an opportunity to participate in the making of this amendment. No comments were submitted in response to the proposal or the FAA's determination of the cost to the public.

Conclusion

The FAA has determined that air safety and the public interest require the adoption of the rule as proposed.

Cost Impact

There are approximately 615 airplanes of the affected design in the worldwide fleet. The FAA estimates that 430 airplanes of U.S. registry will be affected by this AD, that it will take approximately 2 work hours per airplane to accomplish the required actions, and that the average labor rate is $65 per work hour. Required parts will cost approximately $20 per airplane. Based on these figures, the cost impact of the AD on U.S. operators is estimated to be $64,500, or $150 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. Manufacturer warranty remedies may also be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-11-01 Raytheon Aircraft Company: Amendment 39-13646. Docket 2003-NM-216-AD.

Applicability: Model BAe.125 series 800A (including C-29A and U-125 variant) and 800B airplanes; and Model Hawker 800 (including U-125A variant) and 800XP airplanes; as listed in Raytheon Service Bulletin SB 26-3610, Revision 1, dated September 2003; certificated in any category.

Compliance: Required as indicated, unless accomplished previously.

To prevent incorrect wiring of the engine fire extinguisher bottles, which could result in one or both fire extinguisher bottles being discharged into the wrong engine nacelle, accomplish the following:

Function Test, Verification, Installation, and Corrective Action

(a) Within 70 flight hours or 30 days after the effective date of this AD, whichever occurs first, do the actions specified in paragraphs (a) (1) and (a) (2) of this AD per the Accomplishment Instructions of Raytheon Service Bulletin SB 26-3610, Revision 1, dated September 2003.

(1) Perform a functional test of the engine fire extinguishing wiring for appropriate installation, and verify the correct wiring connector installation. If any connector is wired incorrectly, prior to further flight, correct the wiring.

(2) Install the new marker bands.

Exception to Service Bulletin

(b) Although the service bulletin referenced in this AD specifies to submit certain information to the manufacturer, this AD does not include such a requirement.

Alternative Methods of Compliance

(c) In accordance with 14 CFR 39.19, the Manager, Wichita Aircraft Certification Office, FAA, is authorized to approve alternative methods of compliance for this AD.

Incorporation by Reference

(d) The required actions shall be done in accordance with Raytheon Service Bulletin SB 26-3610, Revision 1, dated September 2003. This incorporation by reference was approved by the Director of the Federal Register in accordance with 5 U.S.C. 552(a) and 1 CFR part 51. Copies may be obtained from Raytheon Aircraft Company, Department 62, P.O. Box 85, Wichita, Kansas 67201-0085. Copies may be inspected at the FAA, Transport Airplane Directorate, 1601 Lind Avenue, SW., Renton, Washington; or at the FAA, Wichita Aircraft Certification Office, 1801 Airport Road, Room 100, Mid-Continent Airport, Wichita, Kansas; or at the National Archives and Records Administration (NARA). For information on the availability of this material at NARA, call (202) 741-6030, or go to: http://www.archives.gov/federal_register/code_of_federal_regulations/ibr_locations.html.

Effective Date

(e) This amendment becomes effective on July 7, 2004.

Issued in Renton, Washington, on May 17, 2004.
Kalene C. Yanamura,
Acting Manager, Transport Airplane Directorate, Aircraft Certification Service.

[FR Doc. 04-11959 Filed 6-1-04; 8:45 am]

BILLING CODE 4910-13-P